DEPARTMENT OF TRANSPORTATION

Federal Highway Administration

Notice of Final Federal Agency Actions on Proposed Transportation Project in Ohio

AGENCY: Federal Highway Administration (FHWA), Department of Transportation.

ACTION: Notice of limitation on claims for judicial review.

SUMMARY: The FHWA, on behalf of the Ohio Department of Transportation (ODOT), is issuing this notice to announce actions taken by ODOT and other Federal agencies that are final agency actions. These actions relate to the proposed construction of Sunbury Parkway and the modified Interstate 71 at US 36/SR 37 interchange.

DATES: By this notice, the FHWA, on behalf of ODOT, is advising the public of final agency actions subject to 23 U.S.C. 139(l)(1). A claim seeking judicial review of the Federal Agency actions on the listed highway project will be barred unless the claim is filed on or before September 15, 2025. If the Federal law that authorizes judicial review of a claim provides a time period of less than 150 days for filing such claim, then that shorter time period still applies.

ADDRESSES: The Environmental Assessment Reevaluation and additional project documents can be viewed and downloaded from the project website at: Improved Interchange at I-71/U.S. 36/SR 37 and Proposed Sunbury Pkwy | Ohio Department of Transportation or by contacting ODOT Office of Environmental Services, 1980 West Broad Street, Mail Stop 4170, Columbus, Ohio 43223, during normal business hours of 8 a.m. to 4 p.m. (eastern standard time), Monday through Friday, except State holidays.

FOR FURTHER INFORMATION CONTACT: Timothy M. Hill, Administrator, Office of Environmental Services, Ohio Department of Transportation, 614-644-0377, Tim.Hill@dot.ohio.gov.

SUPPLEMENTARY INFORMATION: Effective December 11, 2015, amended June 6, 2018, and renewed December 14, 2020, the Federal Highway Administration (FHWA) assigned, and the Ohio Department of Transportation (ODOT) assumed, environmental responsibilities for this project pursuant to 23 U.S.C. 327. Notice is hereby given that ODOT has taken final agency actions subject to 23 U.S.C. 139(l)(1) by issuing licenses, permits, and approvals for the following highway project. The actions by ODOT and other Federal agencies on the project, and the laws under which such actions were taken are described in the Environmental Assessment Reevaluation approved on February 7, 2025 and in other project records for the listed project. The Environmental Assessment Reevaluation and other documents for the listed project are available by contacting ODOT at the address provided above or on the listed project website.

The project subject to this notice is:

Project Location: The project will involve construction of an interchange at I-71, south of the existing US 36/SR 37 interchange. This interchange will carry the new Sunbury Parkway over I-71 and run east and west of the interstate, operating in conjunction with the existing interchange to the north at US 36/SR37. The project will also construct Sunbury Parkway from Africa Road at US 36/SR 37 east to US 36/SR 37 (Cherry Street) in Sunbury, OH as a six-lane road with a median, multi-use path and sidewalk and extend Wilson Road south from its current terminus at the Tanger Outlet Mall to the future Sunbury Parkway.

Project Actions: This notice applies to the Environmental Assessment Reevaluation and all other Federal agency licenses, permits, or approvals for the listed project as of the issuance date of this notice including but not limited to the Section 4(f) Resource Programmatic Approval and all laws under which such actions were taken, including, but not limited to:

1. General: National Environmental Policy Act (NEPA) [42 U.S.C. 4321 et seq.]; Federal-Aid Highway Act (FAHA) [23 U.S.C. 109 and 23 U.S.C. 128]; 23 CFR part 771.

2. Air: Clean Air Act (CAA) [42 U.S.C. 7401-7671(q)], with the exception of project level conformity determinations [42 U.S.C. 7506].

3. Noise: Noise Control Act of 1972 [42 U.S.C. 4901-4918]; 23 CFR part 772.

4. Land: Section 4(f) of the Department of Transportation Act of 1966 [23 U.S.C. 138 and 49 U.S.C. 303]; 23 CFR part 774; Land and Water Conservation Fund (LWCF) [54 U.S.C. 200302-200310].

5. Wildlife: Endangered Species Act (ESA) [16 U.S.C. 1531-1544 and 1536]; Marine Mammal Protection Act [16 U.S.C. 1361-1423h], Anadromous Fish Conservation Act [16 U.S.C. 757(a)-757(f)]; Fish and Wildlife Coordination Act [16 U.S.C. 661-667(d)]; Migratory Bird Treaty Act (MBTA) [16 U.S.C. 703-712]; Magnuson-Stevenson Fishery Conservation and Management Act of 1976, as amended [16 U.S.C. 1801-1891d], with Essential Fish Habitat requirements [16 U.S.C. 1855(b)(2)].

6. Historic and Cultural Resources: Section 106 of the National Historic Preservation Act of 1966, as amended [54 U.S.C. 3006101 et seq.]; Archaeological Resources Protection Act of 1979 (ARPA) [16 U.S.C. 470(aa)-470(II)]; Preservation of Historical and Archaeological Data [54 U.S.C.312501-312508]; Native American Grave Protection and Repatriation Act (NAGPRA) [25 U.S.C. 3001-3013; 18 U.S.C. 1170].

7. Social and Economic: Civil Rights Act of 1964 [42 U.S.C. 2000d-2000d-1]; American Indian Religious Freedom Act [42 U.S.C. 1996]; Farmland Protection Policy Act (FPPA) [7 U.S.C. 4201-4209].

8. Wetlands and Water Resources: Clean Water Act (Section 319, Section 401, Section 404) [33 U.S.C. 1251-1387]; Coastal Barriers Resources Act (CBRA) [16 U.S.C. 3501-3510]; Coastal Zone Management Act (CZMA) [16 U.S.C. 1451-1466];; Safe Drinking Water Act (SDWA) [42 U.S.C. 300f-300j-26]; Rivers and Harbors Act of 1899 [33 U.S.C. 401-406]; Wild and Scenic Rivers Act [16 U.S.C. 1271-1287]; Emergency Wetlands Resources Act [16 U.S.C. 3921, 3931]; Wetlands Mitigation, [23 U.S.C. 119(g) and 133(b)(3)]; Flood Disaster Protection Act [42 U.S.C. 4001-4130].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 11593 Protection and Enhancement of Cultural Resources; E.O. 13007 Indian Sacred Sites; E.O. 13287 Preserve America; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

(Authority: 23 U.S.C. 139(l)(1)).

Issued on: April 10, 2025.
David Snyder,
Ohio Division Administrator, Federal Highway Administration.

[FR Doc. 2025-06403 Filed 4-15-25; 8:45 am]

BILLING CODE 4910-RY-P